DEPARTMENT OF THE TREASURY

Submission for OMB Review; Comment Request

November 6, 2009.

The Department of the Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before January 12, 2010 to be assured of consideration.

Terrorism Risk Insurance Program (TRIP)

OMB Number: 1505-0190.

Type of Review: Extension.

Title: Terrorism Risk Insurance Program Rebuttal of Controlling Influence Submission.

Description: 31 CFR 50.8 specifies a rebuttal procedure that requires a written submission by an insurer that seeks to rebut a regulatory presumption of “controlling influence” over another insurer under the Terrorism Risk Insurance Program to provide Treasury with necessary information to make a determination.

Respondents: Businesses or other for-profit institutions.

Estimated Total Reporting Burden: 400 hours.

Clearance Officer: Howard Leiken, 202-622-7139, 1425 New York Avenue, Room 2113, Washington, DC 20220.

Robert Dahl,
Treasury PRA Clearance Officer.

[FR Doc. E9-27203 Filed 11-12-09; 8:45 am]

BILLING CODE 4810-25-P